DEPARTMENT OF TRANSPORTATION

Office of the Secretary

[Docket No. OST-2007-29013]

Senior Executive Service Performance Review Boards Membership

AGENCY: Office of the Secretary, Department of Transportation (DOT).

ACTION: Notice of Performance Review Board (PRB) appointments.

SUMMARY: DOT publishes the names of the persons selected to serve on the various Departmental PRBs as required by 5 U.S.C. 4314(c)(4).

FOR FURTHER INFORMATION CONTACT: Nancy A. Mowry, Director, Departmental Office of Human Resource Management, (202) 366-4088.

SUPPLEMENTARY INFORMATION: The persons named below have been selected to serve on one or more Departmental PRBs.

Issued in Washington, DC, on August 15, 2007.
Linda J. Washington,
Assistant Secretary for Administration.

Department of Transportation

Federal Highway Administration

Alston, Sherri Y.

Baxter, John R.

Binder, Susan

Ewen, Paula D.

Fong, Gene K.

Furst, Anthony T.

Gee, King W.

Gibbs, David C.

Halladay, Michael L.

Henderson, Gary L.

Hochman, Jill L.

Holian, Thomas P.

Horne, Dwight A.

Isler, Frederick D.

Johnson, Christine M.

Judycki, Dennis C.

Juhasz Jr., Barna

Kenney, Marcia G.

Kussy, Edward V. A.

Liff, Diane R.

Lindley, Jeffrey A.

Lwin, Myint

Marchese, April

Paniati, Jeffrey F.

Park, Albert T.

Prosperi, Patricia A.

Ray, James D.

Ridenour, Melisa

Shepherd, Gloria Morgan

Sheridan, Margo

Skaer, Frederick C.

Smith, Willie H.

St John, James E.

Steger, Alan R.

Toole, Joseph S.

Toole, Patricia

Trentacoste, Michael

Wright, Frederick G.

Federal Motor Carrier Safety Administration

Griffith, Michael S.

Hartman, Daniel

Horan, Charles A.

Hugel, David

McMurray, Rose A.

Minor, Larry W.

Pelcovits, Pamela M.

Powers-King, Mary E.

Quade, William A.

Rohde, Suzanne Tebeau

Rutledge, Judith

Shelton, Terry T.

Thomas, D Marlene

Federal Railroad Administration

Bachner, Jane H.

Cothen, Grady C.

Ditmeyer, Steven R.

Eby, Clifford

Haley, Michael T.

Leeds, John G.

Lindsey, Seth M.

Logue, Michael J.

Pritchard, Edward W.

Reid, Margaret B.

Strang, Jo E.

Tessler, Mark

Yachmetz, Mark E.

Federal Transit Administration

Biehl, Scott A.

Borinsky, Susan C.

Doyle, Richard H.

Horner, David B.

Hynes-Cherin, Brigid

Irvin, John W.

Patrick, Robert C.

Rogers, Leslie T.

Schruth, Susan E.

Simon, Marisol

Taylor, Yvette

Tuccillo, Robert J.

Maritime Administration

Blum, Margaret D.

Bohnert, Roger V.

Brohl, Helen

Byrne, Joseph

Caponiti, James E.

Carlton, Bruce J.

Harrelson, Thomas W.

Jones, Taylor E.

McKeever, Jean E.

McMahon, Christopher J.

Nelson, Julie

Pixa, Rand

Roberson, Eileen S.

Stewart, Joseph D.

Weaver, Janice G.

National Highway Traffic Safety Administration

Abraham, Julie

Amoni, Marilena

Carra, Joseph S.

Cooke, Anthony

Demeter, Kathleen C.

Guerci, Lloyd S.

Harris, Claude H.

Hollowell, William T.

Kanianthra, Joseph N.

Kratzke, Stephen R.

Markison, Marlene K.

McLaughlin, Brian

McLaughlin, Susan

Medford, Ronald L.

Michael, Jeffrey P.

Monk, Michael W.

O'Brien, Margaret

Saul, Roger A.

Simons, James F.

Smith, Daniel C.

Walter, Gregory A.

Wood, Stephen P.

Office of Inspector General

Alves, Theodore P.

Batts, Rebecca

Beitel, Richard C.

Dettelbach, Brian A.

Dobbs, David A.

Hunt, Robin K.

Hyde, Kurt W.

Lee, Charles H.

Leng, Rebecca C.

Tornquist, David

Office of the Secretary

Allen, Bernestine

Cumber, Husein

DeCarme, David G.

Eisner, Neil R.

Fields, George C.

Gabel, Roberta D.

Geier, Paul M.

Gretch, Paul L.

Henry J. Richard

Herlihy, Thomas W.

Heup, Ellen L.

Homan, Todd M.

Horn, Donald H.

Howard, Laurie

Hurdle, Lana T.

Jones, Mary N.

Kaleta, Judith S.

Kendall, Quintin C.

Knapp, Rosalind A.

Lawson, Linda L.

Litman, David J.

McDermott, Susan E.

Mintz, Dan

Mowry, Nancy A.

Neff, Lawrence Ira

Patillo, Jacquelyn R.

Podberesky, Samuel

Privett, Lee A.

Reynolds, Michael W.

Sabatine, Melissa

Schmidt, Robert T.

Shaw, Michael E.

Stefani, Alexis M.

Trujillo, J. Michael

Washington, Linda J.

Wells, John V.

Pipeline and Hazardous Materials Safety Administration

Brigham, Edward A.

Edwards, Krista

Gerard, Stacey L.

Richard, Robert

Willke, Theodore L.

Research and Innovative Technology Administration

Chang, William J.

Coonley, Philip S.

Keeler, Nelson H.

Leone, Kelly

Lev, David E.

O'Donnell, John P.

Tompkins, Curtis J.

St. Lawrence Seaway Development Corporation

Middlebrook, Craig H.

Pisani, Salvatore L.

Office of Inspector General (Not Department of Transportation Employees)

Michael Delgado, Department of the Treasury

Melissa Heist, Environmental Protection Agency

Sara B. Gibson, Federal Deposit Insurance Corporation

David Montoya, Department of the Interior

Michael Stephens, Department of Housing and Urban Development

George W. Collard, Department of Energy

Robert Taylor, Department of the Treasury

Kathleen S. Tighe, Department of Agriculture

Karen L. Ellise, Department of Agriculture

[FR Doc. E7-16564 Filed 8-21-07; 8:45 am]

BILLING CODE 4910-9X-P